FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 10, 2003.

A. Federal Reserve Bank of Atlanta (Sue Costello, Vice President) 1000 Peachtree Street, N.E., Atlanta, Georgia 30303:

1. John M. Dudley Sr., Irrevocable Family Trust, John M. Dudley, Jr., and Leslie Green, Phenix City, Alabama, as trustees to retain voting shares of Phenix-Girard Bancshares, Inc., and thereby indirectly retain voting shares of Phenix-Girard Bank, Phenix City, Alabama.

B. Federal Reserve Bank of Chicago (Patrick Wilder, Managing Examiner) 230 South LaSalle Street, Chicago, Illinois 60690-1414:

1. Floyd H. Garrott, Battle Ground, Indiana, individually and as trustee of the John F. Garrott Trust; to retain voting shares of The Farmers State Bank, Brookston, Indiana.

C. Federal Reserve Bank of Minneapolis (Richard M. Todd, Vice President and Community Affairs Officer) 90 Hennepin Avenue, Minneapolis, Minnesota 55480-0291:

1. Kent Evans Nyberg, Grand Rapids, Minnesota, as trustee of the Louise Cameron Family Trust; to acquire control of First National Agency Company of Deer River, Deer River, Minnesota, and thereby indirectly acquire control of First National Bank of Deer River, Deer River, Minnesota.

Board of Governors of the Federal Reserve System, November 20, 2003.
Robert deV. Frierson,
Deputy Secretary of the Board.

[FR Doc. 03-29587 Filed 11-25-03; 8:45 am]

BILLING CODE 6210-01-S